NATIONAL SCIENCE FOUNDATION

Sunshine Act Meetings

The National Science Board (NSB) hereby gives notice of the scheduling of a joint meeting of the National Science Board's Committee on Strategy (CS) and Committee on Awards & Facilities (A&F) for the transaction of National Science Board business pursuant to the NSF Act and the Government in the Sunshine Act.

TIME AND DATE: The joint CS and A&F Committee meeting is scheduled for Monday, April 28, 2025, at 10 a.m. Eastern.

PLACE: The meeting of the NSB Elections Committee will be held via video conference through the National Science Foundation, 2415 Eisenhower Avenue, Alexandria, VA 22314.

STATUS: Closed.

MATTERS TO BE CONSIDERED: The agenda is: Committee on Strategy Chair's remarks about the agenda; Committee on Awards & Facilities Chair's remarks about the agenda; and Discussion of hypothetical NSF budget scenarios.

CONTACT PERSON FOR MORE INFORMATION: Point of contact for this meeting is: Chris Blair, cblair@nsf.gov, 703/292-7000. Meeting information and updates may be found at www.nsf.gov/nsb.

Ann Bushmiller,
Senior Counsel to the National Science Board.

[FR Doc. 2025-07276 Filed 4-23-25; 4:15 pm]

BILLING CODE 7555-01-P